SURFACE TRANSPORTATION BOARD

[Docket No. FD 36537]

Ohio Rail Development Commission—Acquisition and Operation Exemption—City of Jackson, Ohio

Ohio Rail Development Commission (ORDC), a noncarrier, has filed a verified notice of exemption under 49 CFR 1150.31 to acquire from the City of Jackson, Ohio (the City), and operate approximately 60.36 miles of rail line between milepost 0.00/127.0 at Hamden, Ohio, and milepost 32.76 at Firebrick, Ohio; between milepost 112.3 at West Junction, Ohio, and milepost 127.0 at Hamden; between milepost 127.71 at Hamden and milepost 136.71 at Red Diamond, Ohio; between milepost 91.6 at RA Junction, Ohio, and milepost 95.5 at West Junction, which is also known as milepost 112.3 (the Lines). ORDC also will acquire the following spur lines off the Hamden-Firebrick portion of the main line: The Buckeye Branch (an approximately 0.8-mile spur at milepost 2.6), the Meadow Run Branch (an approximately 1.3-mile spur at milepost 4.4), the Huron Branch (East) (an approximately 1.0-mile spur at milepost 13.1), the Huron Branch (West) (an approximately 4.8-mile spur at milepost 13.4), and the Pyro Spur (a 1.1-mile spur at milepost 23.6), as well as incidental trackage rights over 5.9 miles of former B&O/C&O rail lines (currently owned by CSX Transportation, Inc.) for interchange purposes, from milepost 91.6 at RA Junction to milepost 85.7 at VA Junction, near Vauces, Ohio.

The verified notice states that ORDC has reached an agreement with the City to acquire and operate the Lines and that Indiana Eastern Railroad, LLC d/b/a Ohio South Central Railroad will continue to provide operations over the Lines.

ORDC certifies that its projected annual revenues as a result of this transaction will not exceed the maximum revenue of a Class III rail carrier and will not exceed $5 million. ORDC also certifies that the proposed transaction does not involve a provision or agreement that may limit future interchange with a third-party connecting carrier.

The earliest this transaction may be consummated is October 15, 2021, the effective date of the exemption (30 days after the verified notice was filed).¹

¹ ORDC initially submitted its verified notice on September 3, 2021, but filed an errata on September 15, 2021, to correct a mistaken location description for milepost 85.7 and to provide a corrected certification supporting the verified notice. As such, September 15, 2021, is deemed the filing date of the verified notice.

If the verified notice contains false or misleading information, the exemption is void ab initio. Petitions to revoke the exemption under 49 U.S.C. 10502(d) may be filed at any time. The filing of a petition to revoke will not automatically stay the effectiveness of the exemption. Petitions for stay must be filed no later than October 8, 2021 (at least seven days before the exemption becomes effective).

All pleadings, referring to Docket No. FD 36537, should be filed with the Surface Transportation Board via e-filing on the Board's website. In addition, a copy of each pleading must be served on ORDC's representative, Crystal M. Zorbaugh, Baker & Miller PLLC, 2401 Pennsylvania Avenue NW, Suite 300, Washington, DC 20037.

According to ORDC, this action is categorically excluded from environmental review under 49 CFR 1105.6(c) and from historic preservation reporting requirements under 49 CFR 1105.8(b).

Board decisions and notices are available at www.stb.gov.

Decided: September 24, 2021.
By the Board, Valerie O. Quinn, Acting Director, Office of Proceedings.
Eden Besera,
Clearance Clerk.

[FR Doc. 2021-21196 Filed 9-29-21; 8:45 am]

BILLING CODE 4915-01-P